DEPARTMENT OF THE INTERIOR

National Park Service

[NPS-WASO-VRP-WS-NPS36769; PPWOVPADW0-244-PPMPRLE1Y.LB0000]

Evaluation and Authorization Procedures for Fixed Anchors and Fixed Equipment in National Park Service Wilderness Areas

AGENCY: National Park Service, Interior.

ACTION: Notice of availability; request for comment.

SUMMARY: The National Park Service (NPS) announces the availability of a draft Wilderness Stewardship Reference Manual 41 guidance governing the management of climbing activities in wilderness areas in the National Park System. We invite comments from the public, and local, State, Tribal, and Federal agencies.

DATES: We will accept comments received or postmarked on or before 11:59 p.m. ET on January 16, 2024.

ADDRESSES:

Document availability: The draft guidance is available online at: https://parkplanning.nps.gov/RM41_fixed_anchors.

Comment Submission: You may submit written comments by one of the following methods:

• Electronically: https://parkplanning.nps.gov/RM41_fixed_anchors.

• Mail or hand deliver to: Fixed Anchors, National Park Service, 1849 C Street NW, MS-2457 Washington, DC 20240.

Instructions: Comments will not be accepted by fax, email, or in any way other than those specified above. Comments delivered on external electronic storage devices (flash drives, compact discs, etc.) will not be accepted. Bulk comments in any format (hard copy or electronic) submitted on behalf of others will not be accepted.

FOR FURTHER INFORMATION CONTACT: Roger Semler, Wilderness Stewardship Division Manager, National Park Service, (202-430-7615), fixed_anchors@nps.gov.

SUPPLEMENTARY INFORMATION:

Background

The Wilderness Act was passed in 1964 and signed into law by President Lyndon B. Johnson. This Act established the National Wilderness Preservation System “ . . . for the permanent good of the whole people.” The Wilderness Act directs Federal land management agencies, including the NPS, to manage wilderness areas and preserve wilderness character. To support the mandates of the Wilderness Act, the NPS developed specific policies to address wilderness management and stewardship. NPS Management Policies 2006, Chapter 6, and Director's Order 41 (2013) help managers understand why wilderness is important and how they can effectively manage these areas to preserve wilderness character. The Wilderness Stewardship Reference Manual 41 (RM 41) expands on policies for managing wilderness and offers comprehensive guidance to NPS employees responsible for managing and preserving wilderness character and the wilderness resource throughout the National Park System. RM41 addresses the management of recreational climbing activities in wilderness, including the evaluation and authorization process for fixed anchors and fixed equipment associated with climbing activities in NPS administered wilderness areas.

The NPS updates Reference Manuals on a periodic basis to improve park administration. In response to the growing popularity of climbing on public lands, coupled with concerns regarding increasing impacts to wilderness resources and character, the NPS has identified the need to update its policy to provide consistent guidance to park managers and engage the public to help make informed decisions regarding climbing activities in wilderness areas. For these reasons, the NPS has drafted a proposed guidance for inclusion in RM 41 to provide a more comprehensive and consistent framework for evaluating potential actions taken by national parks to authorize the placement and replacement of fixed anchors and fixed equipment for recreational climbing in NPS wilderness areas. This includes guidance for implementing a minimum requirements analysis (MRA) to determine whether fixed anchors are necessary to preserve wilderness character and further wilderness values, including recreation. The guidance will clarify NPS policy on the management of climbing activities in wilderness in accordance with the Wilderness Act (16 U.S.C. 1133(c)).

Tribal Consultation

As expressed in Executive Order 13175, “Consultation and Coordination with Indian Tribal Governments,” the Department is committed to honoring the unique government-to-government political relationship that exists between the Federal Government and federally recognized Indian Tribes as listed at 87 FR 4636 (January 28, 2022). Secretary of the Interior Order No. 3403 (November 15, 2021) affirmed the principle that the Native Hawaiian Community has a government-to-sovereign relationship with the Federal Government and uses Native Hawaiian organizations as its informal representatives. Consistent with these commitments and principles, the NPS initiated Tribal consultation in March 2023. The NPS held three virtual Tribal consultation sessions and accepted written comments from Tribes and Native Hawaiian Organizations for 71 days. The NPS developed this draft guidance after consulting with federally recognized Indian Tribes, and the guidance reflects Tribal input.

Michael P. Michener,
Deputy Associate Director, Visitor and Resource Protection, National Park Service.

[FR Doc. 2023-25142 Filed 11-16-23; 8:45 am]

BILLING CODE 4312-52-P